OFFICE OF NATIONAL DRUG CONTROL POLICY

Paperwork Reduction Act; 10-Day Notice

AGENCY: Office of National Drug Control Policy.

The National Youth Anti-Drug Media Campaign is in the process of renewing without change three data collection instruments. These data collection instruments—qualitative testing of creative advertising concepts (OMB 3201-0011), quantitative testing of near-final advertising before airing (OMB 3201-0006), and a tracking study to measure advertising effectiveness (OMB 3201-0010)—are critical to the continuity of the campaign and are key contributors to the downturn in teen drug abuse.

ONDCP was unable to meet the requirements for 60-day and 30-day notices for a regular renewal of existing data collection instruments. As such, emergency renewal is being submitted for a 6-month extension of the data collection instruments. During this extension period, the 60- and 30-day notices will be published in the Federal Register.

Address comments within 10 days to Mark Krawczyk, ONDCP, Room 737, Washington, DC 20503, by e-mail to MKrawczyk@ondcp.eop.gov, or by telephone at (202) 395-6720.

Signed on September 5, 2008.
Daniel R. Petersen,
Assistant General Counsel.

[FR Doc. E8-21053 Filed 9-10-08; 8:45 am]

BILLING CODE 3180-02-P